DEPARTMENT OF ENERGY

Federal Energy Regulatory Commission

[Docket Nos. RP04-203-000, RP05-105-000 and RP05-164-000]

Equitrans, L.P.; Notice of Informal Settlement Conference

June 2, 2005.

Take notice that an informal settlement conference will be held in the above-referenced dockets starting at 10 a.m. (EST) on Thursday, June 16 and 17, 2005 at the Federal Energy Regulatory Commission, 888 First Street, NE., Washington, DC 20426, for the purpose of exploring a possible settlement in the above-referenced proceeding.

Any party, as defined by 18 CFR 385.102(c), or any participant as defined by 18 CFR 385.102(b), is invited to attend. Persons wishing to become a party must move to intervene and receive intervenor status pursuant to the Commission's regulations (18 CFR 385.214).

FERC conferences are accessible under section 508 of the Rehabilitation Act of 1973. For accessibility accommodations please send an e-mail to accessibility@ferc.gov or call toll free 866-208-3372 (voice) or 202-208-1659 (TTY), or send a FAX to 202-208-2106 with the required accommodations.

For additional information, please contact Lorna Hadlock (202 502-8737).

Linda Mitry,
Deputy Secretary.

[FR Doc. E5-2925 Filed 6-7-05; 8:45 am]

BILLING CODE 6717-01-P